DEPARTMENT OF AGRICULTURE

Forest Service

Plumas County Resource Advisory Committee (RAC)

AGENCY: Forest Service, USDA.

ACTION: Notice of Meeting.

SUMMARY: The Plumas County Resource Advisory Committee (RAC) will hold a meeting on August 19, 2011 in Quincy, CA. This meeting was rescheduled from July 8, 2011. The purpose of the meeting is to review applications for Cycle 11 funding and select projects to be recommended to the Plumas National Forest Supervisor for calendar year 2012 funding consideration. The funding is made available under Title II provisions of the Secure Rural Schools and Community Self-Determination Act of 2000.

Date & Address: The meeting will take place from 9-1:30 at the Mineral Building-Plumas/Sierra County Fairgrounds, 208 Fairgrounds Road, Quincy, CA.

FOR FURTHER INFORMATION CONTACT: (or for special needs): Lee Anne Schramel Taylor, Forest Coordinator, USDA, Plumas National Forest, P.O. Box 11500/159 Lawrence Street, Quincy, CA 95971; (530) 283-7850; or by E-MAIL eataylor@fs.fed.us. Other RAC information may be obtained at http://www.fs.fed.us/srs .

Dated: July 25, 2011.
Laurence Crabtree,
Deputy Forest Supervisor.

[FR Doc. 2011-19354 Filed 7-29-11; 8:45 am]

BILLING CODE P